DEPARTMENT OF ENERGY

Federal Energy Regulatory Commission

Combined Notice of Filings #1

Take notice that the Commission received the following electric corporate filings:

Docket Numbers: EC14-113-000.

Applicants: Headwaters Wind Farm LLC.

Description: Application for Authorization for Disposition of Jurisdictional Facilities and Request for Expedited Action of Headwaters Wind Farm LLC.

Filed Date: 7/17/14.

Accession Number: 20140717-5098.

Comments Due: 5 p.m. ET 8/7/14.

Take notice that the Commission received the following electric rate filings:

Docket Numbers: ER10-2498-002.

Applicants: South Carolina Electric & Gas Company.

Description: South Carolina Electric & Gas Company submits an updated market power analysis.

Filed Date: 7/14/14.

Accession Number: 20140717-0002.

Comments Due: 5 p.m. ET 9/12/14.

Docket Numbers: ER13-107-007.

Applicants: South Carolina Electric & Gas Company.

Description: Order No. 1000 Refile to be effective 4/19/2013.

Filed Date: 7/17/14.

Accession Number: 20140717-5094.

Comments Due: 5 p.m. ET 8/7/14.

Docket Numbers: ER14-1409-000.

Applicants: ISO New England Inc.

Description: Response to the June 27, 2014 Commission Staff Letter of ISO New England Inc. under ER14-1409.

Filed Date: 7/17/14.

Accession Number: 20140717-5101.

Comments Due: 5 p.m. ET 7/31/14.

Docket Numbers: ER14-1578-001.

Applicants: PacifiCorp.

Description: OATT EIM Compliance Filing to be effective 6/20/2014.

Filed Date: 7/18/14.

Accession Number: 20140718-5077.

Comments Due: 5 p.m. ET 8/8/14.

Docket Numbers: ER14-2414-000.

Applicants: Dominion Solar Gen-Tie, LLC.

Description: Supplement to Shared Facilities Agreement to be effective N/A.

Filed Date: 7/18/14.

Accession Number: 20140718-5064.

Comments Due: 5 p.m. ET 8/8/14.

Docket Numbers: ER14-2459-000.

Applicants: Rumford Falls Hydro LLC.

Description: Rumford Falls Hydro LLC MBR Filing to be effective 7/18/2014.

Filed Date: 7/17/14.

Accession Number: 20140717-5096.

Comments Due: 5 p.m. ET 8/7/14.

Docket Numbers: ER14-2460-000.

Applicants: Ohio Valley Electric Corporation.

Description: Compliance Amending Attachment O & P to OATT to be effective 7/17/2014.

Filed Date: 7/18/14.

Accession Number: 20140718-5001.

Comments Due: 5 p.m. ET 8/8/14.

Docket Numbers: ER14-2461-000.

Applicants: PPL Electric Utilities Corporation, PJM Interconnection, L.L.C.

Description: PPL submits SA 3880—Notice of Assignment of FERC Rate Schedule No. 23 to be effective 9/17/2010.

Filed Date: 7/18/14.

Accession Number: 20140718-5031.

Comments Due: 5 p.m. ET 8/8/14.

Docket Numbers: ER14-2462-000.

Applicants: PJM Interconnection, L.L.C.

Description: Queue Position W3-028; Original Service Agreement Nos. 3899 and 3900 to be effective 6/17/2014.

Filed Date: 7/18/14.

Accession Number: 20140718-5059.

Comments Due: 5 p.m. ET 8/8/14.

Docket Numbers: ER14-2463-000.

Applicants: Magnolia Energy LP.

Description: Notice of Cancellation of Market-Based Rate Tariff to be effective 7/19/2014.

Filed Date: 7/18/14.

Accession Number: 20140718-5065.

Comments Due: 5 p.m. ET 8/8/14.

Docket Numbers: ER14-2464-000.

Applicants: Midcontinent Independent System Operator, Inc.

Description: 2014-07-18 SA 2678 OTP-Border Winds Energy FCA (J290) to be effective 7/19/2014.

Filed Date: 7/18/14.

Accession Number: 20140718-5074.

Comments Due: 5 p.m. ET 8/8/14.

Docket Numbers: ER14-2465-000.

Applicants: RE Columbia Two LLC.

Description: Baseline Filing—Market-Based Rate Tariff to be effective 9/7/2014.

Filed Date: 7/18/14.

Accession Number: 20140718-5092.

Comments Due: 5 p.m. ET 8/8/14.

Take notice that the Commission received the following electric securities filings:

Docket Numbers: ES14-44-000.

Applicants: El Paso Electric Company.

Description: Supplement to June 12, 2014 Application of El Paso Electric Company under Section 204 of the Federal Power Act.

Filed Date: 7/18/14.

Accession Number: 20140718-5061.

Comments Due: 5 p.m. ET 7/28/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 18, 2014.
Nathaniel J. Davis, Sr.,
Deputy Secretary.

[FR Doc. 2014-17560 Filed 7-24-14; 8:45 am]

BILLING CODE 6717-01-P